DEPARTMENT OF THE INTERIOR

Fish and Wildlife Service

Notice of Extension to Public Comment Period

AGENCY: Fish and Wildlife Service, Department of the Interior.

ACTION: Notice of extension to public comment period.

SUMMARY: This notice informs the public that the comment period for the Draft Comprehensive Conservation Plan and Boundary Revision—Environmental Impact Statement for Stillwater National Wildlife Refuge Complex is extended.

DATES: The comment period has been extended to August 12, 2000. Comments will be considered during the preparation of the Final Environmental Impact Statement.

ADDRESSES: Address comments and requests for more information to: Refuge Manager, Stillwater National Wildlife Refuge Complex, P.O. Box 1236, Fallon, NV 89406.

FOR FURTHER INFORMATION CONTACT: Kim Hanson, Refuge Manager, Stillwater National Wildlife Refuge Complex (775) 423-5128.

SUPPLEMENTARY INFORMATION: The U.S. Fish and Wildlife Service (Service) published in the Federal Register of April 14, 2000 (Vol. 65, No. 73), that comments to the Stillwater National Wildlife Refuge Complex Comprehensive Conservation Plan and Boundary Revision draft Environmental Impact Statement were to be received on or before June 12, 2000. In response to public interest, the Service has granted two separate 30 day extensions to the public comment period.

Dated: June 16, 2000.
Elizabeth H. Stevens,
Acting CA/NV Operations Manager.

[FR Doc. 00-15892 Filed 6-22-00; 8:45 am]

BILLING CODE 4310-55-M